DEPARTMENT OF STATE

[Public Notice: 11095]

Notice of Public Teleconference Concerning the Use of Digital Sequence Information of Genetic Resources

ACTION: Notice of meeting.

SUMMARY: The U.S. Department of State (DOS) invites submission of comments from the public, academia, industry, and other stakeholders on the topic of “digital sequence information (DSI) on genetic resources,” also known as genetic sequence data (GSD). The United States will use these comments to inform policy development and international messaging on GSD, particularly regarding the Convention on Biological Diversity (CBD) and the Nagoya Protocol. The Department will hold a public meeting and information session to discuss these issues, on May 14, 2020 at 10:00 a.m., by teleconference. This teleconference is in place of the postponed in-person public meeting on DSI originally scheduled for March 12, 2020 [Public Notice 11037].

DATES: A teleconference is planned on Thursday, May 14, 2020. The meeting will begin at 10:00 a.m. EDT and last for up to two hours. Dial-in details will be made available upon registration. Electronic comments are due on or before June 30, 2020.

ADDRESSES: The meeting will be held by phone. You will receive dial-in details upon registration. One electronic submission per person by the June 30 deadline is welcome, with no more than 10 pages of single-spaced text including relevant examples, with no more than one page per example. Submissions should be made via the internet at www.regulations.gov docket number [DOS-2020-2017]. Note that relevant comments submitted to regulations.gov will be posted without editing and will be available to the public; therefore, business-confidential information should be clearly identified as such and submitted by email instead to ReillyPK2@state.gov. The public is required to file submissions electronically rather than by facsimile or mail. You do not need to resubmit comments if you submitted comments for the original Federal Register Notice [Public Notice 11037] announcing the now postponed, in-person public meeting on DSI originally scheduled for March 12, 2020.

FOR FURTHER INFORMATION CONTACT: Questions regarding the submission of comments should be directed to Patrick Reilly (202) 647-4827, ReillyPK2@state.gov.

SUPPLEMENTARY INFORMATION: The Secretariat of the CBD released three studies on “Digital Sequence Information on Genetic Resources” (https://www.cbd.int/dsi-gr/2019-2020/studies/) that examine the scope, present use, traceability, access, and current benefit-sharing schemes relating to DSI/GSD. These studies were commissioned to inform decisions by the Parties to the CBD and the Nagoya Protocol at the 2020 Conference of Parties (COP) to the CBD and the Conference of Parties serving as the Meeting of the Parties to the Nagoya Protocol. (Originally planned for October 15-18, 2020 in Kunming, China, the CBD COP and related meetings have been postponed due to COVID-19; new dates have not yet been announced.) During the teleconference, DOS will provide a brief overview of the ongoing discussions regarding DSI/GSD in the context of the CBD and the Nagoya Protocol and public participants will have the opportunity to share their comments, concerns, and questions about this issue. The information obtained from these meetings will help the U.S. Government prepare for U.S. participation in international meetings, in particular, U.S. participation in upcoming CBD and Nagoya Protocol meetings. Documents and other information related to the CBD and Nagoya Protocol can be found at this website: www.cbd.int.

We welcome examples, information, and comment on:

(1) The CBD studies cited above;

(2) practices regarding the collection, management, and use of DSI/GSD;

(3) experiences with access and benefit-sharing (ABS) approaches or requirements related to DSI/GSD;

(4) specific examples of actual and potential impacts that could occur if tracking and benefit sharing for the utilization of DSI/GSD were required by domestic legislation in other countries, or encouraged under the Nagoya Protocol or other international instruments, such as the International Treaty on Plant Genetic Resources for Food and Agriculture and the World Health Organization Pandemic Influenza Preparedness Framework;

(5) specific examples of actual and potential impacts that could occur if tracking and benefit sharing for the utilization of DSI/GSD were required on research collaborations, international sample sharing, academic and commercial research, pandemic and epidemic preparedness and response, and food security;

(6) monetary or non-monetary benefits that are facilitated by international sharing of DSI/GSD;

(7) how organizations can still advance science if national-level ABS frameworks in other countries require tracking and benefit sharing for the utilization of DSI/GSD;

(8) non-ABS challenges and barriers to sharing DSI/GSD that have significant implications for global research efforts that might merit additional attention or analysis; and

(9) issues and/or examples related to the items described above or other items that could affect the scientific process.

Representatives from DOS will review written submissions and share them, as appropriate, with other Federal Agencies to inform U.S. Government policy and our international engagements on these issues. U.S. officials may contact individuals making submissions for further information or clarification.

Status: The meeting will be open to the public. Persons wishing to dial-in should submit their full name and organization to Patrick Reilly at ReillyPK2@state.gov and copy RSVP-ECW@state.gov at least three days prior to the meeting. Requests made after that time will be considered but might not be accommodated.

Zachary A. Parker,
Director, Office of Directives Management, Department of State.

[FR Doc. 2020-08784 Filed 4-23-20; 8:45 am]

BILLING CODE 4710-09-P